FEDERAL COMMUNICATIONS COMMISSION

Notice of Public Information Collection(s) Being Reviewed by the Federal Communications Commission

August 20, 2004.

SUMMARY: The Federal Communications Commission, as part of its continuing effort to reduce paperwork burden invites the general public and other Federal agencies to take this opportunity to comment on the following information collection(s), as required by the Paperwork Reduction Act of 1995, Public Law 104-13. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before October 1, 2004. If you anticipate that you will be submitting comments, but find it difficult to do so within the period of time allowed by this notice, you should advise the contact listed below as soon as possible.

ADDRESSES: Direct all comments regarding this Paperwork Reduction Act submission to Judith B. Herman, Federal Communications Commission, Room 1-C804, 445 12th Street, SW., DC 20554 or via the Internet to Judith-B.Herman@fcc.gov.

FOR FURTHER INFORMATION CONTACT: For additional information or copies of the information collection(s), contact Judith B. Herman at 202-418-0214 or via the Internet at Judith-B.Herman@fcc.gov.

SUPPLEMENTARY INFORMATION: OMB Control No.: 3060-0957.

Title: Wireless Enhanced 911 Service.

Form No: Not applicable.

Type of Review: Extension of a currently approved collection.

Respondents: Business or other for-profit, not-for-profit institutions and state, local or tribal government.

Number of Respondents: 2,500.

Estimated Time Per Response: 3 hours.

Frequency of Response: On occasion reporting requirement.

Total Annual Burden: 7,500 hours.

Total Annual Cost: Not applicable.

Privacy Act Impact Assessment: Not applicable.

Needs and Uses: The Fourth Memorandum Opinion and Order, (FCC 00-326, CC Docket No. 94-102), adopted and released in 2000, responded to petitions for reconsideration of certain aspects of the Third Report and Order in this proceeding concerning the establishment of a nationwide wireless enhanced 911 emergency communications service. This decision revised, among other things, the deployment schedule that must be followed by wireless carriers that choose to implement E911 service using a handset-based technology. The Paperwork Reduction Act (PRA) burden involves guidelines for filing successful requests for waiver of the E911 Phase II rules. The Commission also extended the filing deadline for filing reports. With this submission to OMB, the Commission is seeking extension (no change in requirements) in order to obtain the full three year clearance.

OMB Control No.: 3060-0975.

Title: Promotion of Competitive Networks in Local Telecommunications Markets Multiple Environments (47 CFR Parts 1, 64 and 68).

Form No: Not applicable.

Type of Review: Extension of a currently approved collection.

Respondents: Business or other for-profit, not-for-profit institutions, Federal government, and state, local or tribal government.

Number of Respondents: 6,421.

Estimated Time Per Response: .5-120 hours.

Frequency of Response: On occasion reporting requirement and third party disclosure requirement.

Total Annual Burden: 623,910 hours.

Total Annual Cost: $5,256,000.

Privacy Act Impact Assessment: Not applicable.

Needs and Uses: This collection involves information regarding the location of demarcation points, antennas placed on subscriber premises, and the state of the market. This information will be used to foster competition in local telecommunications markets by ensuring that competing telecommunications providers are able to provide services to customers in multiple tenant environments. With this submission to OMB, the Commission is seeking extension (no change in requirements) in order to obtain the full three year clearance.

Federal Communications Commission.
Marlene H. Dortch,
Secretary.

[FR Doc. 04-19895 Filed 8-31-04; 8:45 am]

BILLING CODE 6712-01-P